DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed new collection of the data contained on the Workforce Investment Act (WIA) National Emergence Grant Activities, Quarterly Financial Status Report (ETA 9099). A copy of the proposed information collection request (ICR) can be obtained by contacting the office listed below in the addresses section of this notice.

DATES: Written comments must be submitted to the office listed in the addresses section below on or before April 29, 2002.

ADDRESSES: Isabel Danley, Office of Grants and Contract Management, Employment and Training Administration, United States Department of Labor, 200 Constitution Avenue, NW, Room N-4720, Washington, DC 20210, 202-693-3047 (this is not a toll free number), Internet Address: idanley@doleta.gov, and FAX: 202-693-3362.

SUPPLEMENTARY INFORMATION:

I. Background

Pursuant to Public Law 105-220, dated August 7, 1998, and 20 CFR part 652, et al., Workforce Investment Act (WIA) Final Rules, dated August 11, 2000, the Department of Labor's Employment and Training Administration has revised the financial reporting instructions for the National Emergency Grants. Title I, Subtitle E—Administration, Sec. 185, Reports; Recordkeeping; Investigations, of the WIA, establishes that all recipients of funds under Title I must maintain records and submit reports in such form and containing such information as required by the Secretary. The WIA regulations at Part 667.300, Subpart C—Reporting Requirements, further state that “All States and other direct grant recipients must report financial, participant, and performance data in accordance with instructions issued by DOL.”

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The Department of Labor's Employment and Training Administration (ETA) has determined that the currently required Standard Form (SF) 269, Quarterly Financial Status Report, and accompanying instructions are not adequate to capture project level data for the National Emergency Grants. Therefore, a slightly modified SF 269 and detailed instructions requiring financial reporting by project, by fund source, is proposed. ETA management in both the financial and programmatic areas concur that this level of detail is needed to assess program performance by project and to permit accountability by fund source. The data elements contained on the prototype format will be incorporated into software that will be provided electronically to NEG recipients for direct on-line reporting. The enhanced instructions will also be incorporated into the software for on-line reference.

Type of Review: New.

Agency: Department of Labor, Employment and Training Administration.

Title: Workforce Investment Act (WIA) Employment and Training Administration (ETA) Financial Reporting Requirements for National Emergency Grants.

OMB Number: 1205-0NEW.

Agency Number: ETA 9099.

Recordkeeping: The rules governing the record retention requirements for WIA Title I grantees are contained at 29 CFR 97.42 and 29 CFR 95.53, based on the nature of the entity receiving and expending funds.

Affected Public: States, Local Workforce Investment Boards, Indian Tribes, Alaska Native entities, Native Hawaiian organizations, entities determined to be eligible by the Governor of the State involved, and other entities that demonstrate to the Secretary the capability to effectively respond to the circumstances relating to particular disasters.

Form: WIA Quarterly Financial Status Report for National Emergency Grants.

Total Respondents: Forty.

Frequency: Quarterly.

Total Responses: 320 reports per year.

Average Time per Response: One-half hour.

Estimated Total Burden Hours: 160 Burden Hours. See attached Burden Table.

Comments submitted in response to this comment request will be summarized and/or included in the request for Office of Management and Budget approval of the information collection request; they will also become a matter of public record.

Dated: February 21, 2002.
Bryan T. Keilty,
Administrator, Office of Financial and Administrative Management.

BILLING CODE 4510-30-P

[FR Doc. 02-4615 Filed 2-26-02; 8:45 am]

BILLING CODE 4510-30-C